DEPARTMENT OF THE INTERIOR

National Park Service

National Register of Historic Places; Notification of Pending Nominations

Nominations for the following properties being considered for listing in the National Register were received by the National Park Service before March 29, 2003. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-343-1836. Written or faxed comments should be submitted by May 8, 2003.

Carol D. Shull,
Keeper of the National Register of Historic Places.

ILLINOIS

Du Page County

Butler School, 1200 31st. St. (Oak Brook Rd.), Oak Brook, 03000355

Ogle County

Oregon Public Library (Illinois Carnegie Libraries MPS), 300 Jefferson St., Oregon, 03000352

Stephenson County

AF and AM Lodge 687, Orangeville, 203 W. High St., Orangeville, 03000354

Whiteside County

Lyndon Bridge, S end of 6th Ave. W., Lyndon, 03000353

IOWA

Sac County

Chicago and North Western Passenger Depot, 3727 Perkins Ave., Wall Lake, 03000358

Story County

Nevada Downtown Historic District (Nevada Central Business District MPS), Approx. 6th St. from I Ave. to M Ave., Nevada, 03000356

Webster County

Oleson Park Music Pavilion, 1400 Oleson Park Ave., Fort Dodge, 03000357

Woodbury County

Sanford, Arthur and Stella, House, 1925 Summit, Sioux City, 03000359

KANSAS

Butler County

Little Walnut River Pratt Truss Bridge (Metal Truss Bridges in Kansas 1861—1939 MPS), SW 160th Rd., 0.5 mi. W of int. with Purity Springs Rd., Bois D'Arc, 03000377

Chase County

Cottonwood River Pratt Truss Bridge (Metal Truss Bridges in Kansas 1861—1939 MPS), Main St., 0.8 mi. W of int. with 1st St., Cedar Point, 03000376

Dickinson County

Chapman Creek Pratt Truss Bridge (Metal Truss Bridges in Kansas 1861—1939 MPS), Quail Rd., 1.7 mi. S of int. with KS 18, 2.5 mi. N of Chapman, Chapman, 03000375

Franklin County

Eight Mile Creek Warren Truss Bridge (Metal Truss Bridges in Kansas 1861—1939 MPS), Osborne Terrace, 0.2 mi. W of int. with Eisenhower Terrace, 1.0 W of Main St., Ottawa, 03000374

Geary County

Old Katy Bridge (Metal Truss Bridges in Kansas 1861—1939 MPS), Otter Creek Rd., 0.5 mi. S of int. with Lyons Creek Rd., 0.5 mi. SE of Wreford, Wreford, 03000370

Jefferson County

Delaware River Composite Truss Bridge (Metal Truss Bridges in Kansas 1861—1939 MPS), Coal Creek Rd., 0.1 mi. S of int. with 170th Rd., Valley Falls, 03000371

Delaware River Parker Truss Bridge (Metal Truss Bridges in Kansas 1861—1939 MPS), Bridge St., 0.3 mi. W of int. with Main St., Perry, 03000372

Leavenworth County

Begley Bridge (Metal Truss Bridges in Kansas 1861—1939 MPS), Two unnamed farm rds flanking Stranger Creek 1.1 mi. W of jct. with 227th St. and Roe Rd., 1.75 mi. NW of Millwood, Millwood, 03000373

Lincoln County

Salt Creek Truss Leg Bedstead Bridge (Metal Truss Bridges in Kansas 1861—1939 MPS), B Rd., 0.6 mi. E of int. with 24th Rd., 1.0 mi. N of Barnard, Barnard, 03000368

McPherson County

North Gypsum Creek Truss Leg Bedstead Bridge (Metal Truss Bridges in Kansas 1861—1939 MPS), Sioux Rd., 0.2 mi. E of int. with 24th Ave., 1.0 mi. S and 2.8 mi. W of Roxbury, Roxbury, 03000367

Nemaha County

Clear Creek Camel Truss Bridge (Metal Truss Bridges in Kansas 1861—1939 MPS), Unnamed Rd., 0.5 mi. W of FAS 485, 6.8 mi. N of Baileyville, Baileyville, 03000360

Norton County

North Fork Solomon River Lattice Truss Bridge (Metal Truss Bridges in Kansas 1861—1939 MPS), Rd. W&, 0.1 mi. S of int. with Rd. BB, 1.5 mi. W of Lenora, Lenora, 03000366

Sand Creek Truss Leg Bedstead Bridge (Metal Truss Bridges in Kansas 1861—1939 MPS), Rd. Y, 0.5 mi. W of int. with KS 283, 2 mi. N of KS 9 and 6 mi. NE of Lenora, Lenora, 03000365

Osage County

Atchison, Topeka, and Santa Fe Pratt Truss Bridge (Metal Truss Bridges in Kansas 1861—1939 MPS), SE Pine St., 0.1 mi. S of int. with E. Emporia St., Melvern, 03000364

Osborne County

East Fork Wold Creek Pratt Truss Bridge (Metal Truss Bridges in Kansas 1861—1939 MPS), W 290th Dr., 0.8 mi. E of jct. with S. 50th Ave., 2.0 mi. S and 4.0 mi. E of Cheyenne, Delhi, 03000361

Phillips County

Battle Creek King Post Truss Bridge (Metal Truss Bridges in Kansas 1861—1939 MPS), W. Eagle Rd., 3.0 mi. E of jct. with Washington Rd., Long Island, 03000362

Shawnee County

Wea Creek Bowstring Arch Truss Bridge (Metal Truss Bridges in Kansas 1861—1939 MPS), Grounds of the Kansas State Historical Society, 6425 SE 6th Ave., Topeka, 03000363

LOUISIANA

Vernon Parish

Talbert—Pierson Grave Shelters, Victor Martin Rd., Sugartown, 03000378

MASSACHUSETTS

Essex County

High Street Cemetery, 45 High St., Danvers, 03000382

Main Street Historic District, Main, Summer Sts., Haverhill, 03000383

Middlesex County

Fells Connector Parkways, Metropolitan System of Greater Boston (Metropolitan Park System of Greater Boston MPS), Fellsway East: E. Border Rd. To Fellsway W; Fellsway West: Fulton St. to Fellway E; Fellsway: Fellsway E to Wellington Br, Malden and Medford, 03000379

Fellsmere Park Parkways, Metropolitan Park System of Greater Boston (Metropolitan Park System of Greater Boston MPS), W. Border Rd, Boundary Rd., Malden, 03000381

Suffolk County and Essex County

Lynn Fells Parkway, Metropolitan Park System of Greater Boston (Metropolitan Park System of Greater Boston MPS), Lynn Fells Parkway, Melrose, Saugus, 03000380

Savin Hill Historic District, Roughly along Savin Hill Ave., then bounded by William T Morrissey Blvd., Dorchester Bay and Hubbardston Rd., Boston, 03000385

Worcester County

Brookfield Cemetery, Main St., Brookfield, 03000384

MICHIGAN

Leelanau County

Riverside Inn, 302 E. River St., Leland, 03000386

MISSISSIPPI

Hinds County

Spengler—Thomas Building, 129 S. President, Jackson, 03000387

Jasper County

Montrose Presbyterian Church, Cty. Rd. 20, Montrose, 03000388

NEW JERSEY

Passaic County

Reihardt Mills, 283-297 21st Ave., 122-136 20th Ave., 46-72 Gray St., 45-67 State St., Paterson City, 03000393

NORTH CAROLINA

Macon County

Baldwin—Coker Cottage, 226 Lower Lake Rd., Highlands, 03000390

Wake County

Roanoke Park Historic District (Five Points Neighborhoods, Raleigh, North Carolina MPS), Roughly bounded by Whitaker Mill Rd., Fairview Rd., Morrison Ave., Sunrise Ave., and Brickett Blvd., Raleigh, 03000389

Vanguard Park Historic District (Five Points Neighborhoods, Raleigh, North Carolina MPS), Roughly bounded by McCarthy St., Whitaker Mill Rd., Pine Ave., and Hudson St., Raleigh, 03000391

Wilkes County

Downtown Main Street Historic District, Roughly the 800 and 900 Blks. of Main St., North Wilkesboro, 03000392

TENNESSEE

Madison County

Riverside Cemetery, 300 Riverside Dr., Jackson, 03000394

VERMONT

Addison County

Vergennes Residential Historic District, S. Water St., Green St., S. Maple St.-S of Main St., Vergennes, 03000395

VIRGINIA

Mecklenburg County

Rudd Branch Ridge—Complexes #1 and #2 (Archeological Sites within the John H. Kerr Reservoir Area), Address Restricted, Boydton, 03000396

[FR Doc. 03-10028 Filed 4-22-03; 8:45 am]

BILLING CODE 4310-70-P